DEPARTMENT OF ENERGY

Federal Energy Regulatory Commission

[Docket No. CP06-54-000]

Broadwater Energy, LLC; Notice of Technical Meeting

August 2, 2006.

On Tuesday August 22, 2006, at 10 a.m. (EDT), staff of the Office of Energy Projects will meet with representatives of the U.S. Coast Guard and Broadwater Energy, LLC regarding the proposed Broadwater Floating Storage Regasification Unit. The purpose of the meeting is to discuss technical information requested on June, 20, 2006, as a follow-up to the June, 6 and 7, 2006, Cryogenic Design and Technical Conference in Port Jefferson, New York. The meeting will be held in Room 3M-3 at the Federal Energy Regulatory Commission located at 888 1st Street, NE., Washington, DC.

In view of the nature of critical energy infrastructure information and security issues to be explored, the meeting will not be open to the public. Attendance at this meeting will be limited to existing parties to the proceeding (anyone who has specifically requested to intervene as a party) and to representatives of interested Federal, state, and local agencies. Any person planning to attend the August 22, 2006, meeting must register by close of business on Monday, August 21, 2006. Registrations may be submitted either online at http://www.ferc.gov/whats-new/registration/cryo-conf-form.asp or by faxing a copy of the form (found at the referenced online link) to 202-208-0353. All attendees must sign a non-disclosure statement prior to entering the meeting. For additional information regarding the meeting, please contact Phil Suter at phillip.suter@ferc.gov or 202-502-6368.

FERC conferences are accessible under section 508 of the Rehabilitation Act of 1973. For accessibility accommodations please send an e-mail to accessibility@ferc.gov or call toll free 1-866-208-3372 (voice) or 202-208-1659 (TTY), or send a fax to 202-208-2106 with the required accommodations.

Magalie R. Salas,
Secretary.

[FR Doc. E6-13046 Filed 8-9-06; 8:45 am]

BILLING CODE 6717-01-P